SOCIAL SECURITY ADMINISTRATION

[Docket No. SSA-2022-0029]

Privacy Act of 1974; Matching Program

AGENCY: Social Security Administration (SSA).

ACTION: Notice of a new matching program.

SUMMARY: In accordance with the provisions of the Privacy Act, as amended, this notice announces a new matching program with The Department of Veterans Affairs (VA), Veterans Benefits Administration (VBA).

DATES: Submit comments on the proposed matching program on or before January 13, 2023. The matching program will be applicable on March 6, 2023, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2022-0029 so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at https://www.regulations.gov. Use the Search function to find docket number SSA-2022-0029 and then submit your comments. The system will issue you a tracking number to confirm your submission. You will not be able to view your comment immediately because we must post each submission manually. It may take up to a week for your comments to be viewable.

2. Fax: Fax comments to (833) 410-1613.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at http://www.regulations.gov or in person, during regular business hours, by arranging with the contact person identified below.

FOR FURTHER INFORMATION CONTACT: Interested parties may submit general questions about the matching program to Cynthia Scott, Division Director, Office of Privacy and Disclosure, Office of the General Counsel, Social Security Administration, G-401 WHR, 6401 Security Boulevard, Baltimore MD 21235-6401, at telephone: (410) 966-5855, or send an email to Cynthia.Scott@ssa.gov.

SUPPLEMENTARY INFORMATION: None.

Matthew Ramsey,
Executive Director, Office of Privacy and Disclosure, Office of the General Counsel.

PARTICIPATING AGENCIES:

SSA and VA VBA.

AUTHORITY FOR CONDUCTING THE MATCHING PROGRAM:

This Agreement is executed under the Privacy Act of 1974, 5 U.S.C. 552a, as amended by the Computer Matching and Privacy Protection Act (CMPPA) of 1988, Public Law (Pub. L.) 100-503, 102 Stat. 2507 (1988), as amended, and the Computer Matching and Privacy Protection Amendments of 1990, and the regulations and guidance promulgated thereunder.

The CMPPA applies when computerized comparisons of Privacy Act-protected records contained within a Federal agency's databases and the records of another organization are made in order to determine an individual's eligibility to receive a Federal benefit. The CMPPA requires the parties participating in a matching program to execute a written agreement specifying the terms and conditions under which the matching program will be conducted.

Legal authorities for the disclosures under this Agreement are covered by two sections of the Social Security Act (Act):

• Section 1144(a)(1) and (b)(1) of the Act [42 U.S.C. 1320b-14(a)(1) and (b)(1)] concerns the SSA's outreach efforts to increase awareness of the availability of Medicare cost-sharing and subsidies for low-income individuals under Title XVIII of the Act (Medicare).

• Section 1860D 14(a)(3) of the Act [42 U.S.C. 1395w 114(a)(3)] concerns the Medicare coverage gap discount program that makes manufacturer discounts available to eligible Medicare beneficiaries receiving applicable, covered Part D drugs, while in the coverage gap.

PURPOSE(S):

This matching program establishes the conditions under which the VA VBA will provide SSA with VA compensation and pension payment data. This disclosure will provide SSA with information necessary to verify an individual's self-certification of eligibility for the Medicare Prescription Drug (Medicare Part D) subsidy (Extra Help). It will also enable SSA to identify individuals who may qualify for Extra Help as part of the agency's Medicare outreach efforts.

CATEGORIES OF INDIVIDUALS:

The individuals whose information is involved in this matching program are those who are recorded in VA compensation and pension payment records and are matched with data in SSA's Medicare Database system of records. Such individuals have self-certified eligibility to SSA for the Medicare Part D Extra Help. In addition, SSA will use the information to identify individuals who may quality for Extra Help as part of the agency's Medicare outreach efforts.

CATEGORIES OF RECORDS:

VA's data file comes from compensation and pension payment data records. SSA matches VA data against Medicare Database (MDB) data.

SSA will conduct the match using the Social Security number, name, date of birth, and VA claim number on both the VA file and the MDB.

SYSTEM(S) OF RECORDS:

VA will provide compensation and pension payment data from its System of Records (SOR) entitled “Compensation, Pension, Education, and Vocational Rehabilitation and Employment Records-VA” (58VA21/22/28), last fully published at 74 FR 14865 (April 1, 2009) and last amended at 86 FR 61858 (November 8, 2021).

SSA will match the VA data with SSA SOR “Medicare Database File,” 60-0321, last fully published at 71 FR 42159 (July 25, 2006) and amended at 72 FR 69723 (December 10, 2007) and 83 FR 54969 (November 1, 2018).

[FR Doc. 2022-27107 Filed 12-13-22; 8:45 am]

BILLING CODE 4191-02-P